ENVIRONMENTAL PROTECTION AGENCY

[Docket No. ER-FRL-6677-8]

Environmental Impact Statements; Notice of Availability

Responsible Agency: Office of Federal Activities, General Information (202) 564-7167 or http://www. epa.gov/compliance/nepa/.

Weekly receipt of Environmental Impact Statements

Filed 07/24/2006 through 07/28/2006

Pursuant to 40 CFR 1506.9.

EIS No. 20060314, Final EIS, SFW, CA, Bair Island Restoration and Management Plan, Tidal Action Restoration, Don Edwards San Francisco Bay National Wildlife Refuge, Bair Island State Ecological Reserve, South San Francisco Bay, San Mateo County, CA, Wait Period Ends: 09/04/2006, Contact: Clyde Morris 510-792-0222.

EIS No. 20060315, Draft EIS, AFS, CA, Antelope-Pardee 500kV Transmission Project, Construct, Operate and Maintain a New 25.6 mile 500kV Transmission Line, Right-of-Way Permit and Special Use Authorization, Angeles National Forest, Los Angeles County, CA, Comment Period Ends: 09/18/2006, Contact: Marian Kadota 805-961-5732.

EIS No. 20060316, Draft EIS, GSA, ME, Madawaska Border Station Project, Replacement of Existing Border Station in Madawaska, International Border between United States and Canada, Aroostook County, ME, Comment Period Ends: 09/22/2006, Contact: David M. Drevinsky 617-565-6596.

EIS No. 20060317, Draft EIS, FHW, NY, NY Route 347 Safety and Mobility Improvement Project, from Northern State Parkway to NY Route 25A, Funding, Towns of Smithtown, Islip and Brookhaven, Suffolk County, NY, Comment Period Ends: 09/18/2006, Contact Robert Arnold 518-431-4127.

EIS No. 20060318, Draft EIS, FHW, NY, Greenville Southwest Bypass Study, Transportation Improvements to NC 11 and U.S. 264 Business, U.S. Army COE Section 404 Permit, Pitt County, NY, Comment Period Ends: 09/18/2006, Contact: John F. Sullivan, III 919-856-4346.

EIS No. 20060319, Final EIS, NPS, AR, Pea Ridge National Military Park General Management Plan, Implementation, AR, Wait Period Ends: 09/04/2006, Contact: John Scott 479-451-8122 Ext 224.

EIS No. 20060320, Final EIS, NRC, IL, Early Site Permit (ESP) at the Exelon ESP Site, Application for ESP on One Additional Nuclear Unit, within the Clinton Power Station (CPS), NUREG-1815, DeWitt County, IL, Wait Period Ends: 09/04/2006, Contact: Thomas Kenyon 301-415-1120.

EIS No. 20060321, Draft EIS, AFS, CA, Diamond Vegetation Management Project, To Shift Existing Conditions Towards Desired Future Conditions, MT. Hough Ranger District, Plumas National Forest, Plumas County, CA, Comment Period Ends: 09/18/2006, Contact: Merri Carol Martens 530-283-7689.

EIS No. 20060322, Final EIS, BLM/AFS, CO, Northern San Juan Basin Coal Bed Methane Project, Proposal to Drill 300 Wells to Produce National Gas from Coal Beds on Federal, State and Private Owned Lands, Special-Use-Permit, Application for Permit to Drill and US Army COE Section 404 Permit, LaPlata and Archuleta Counties, CO, Wait Period Ends: 09/04/2006, Contact: Walt Brown 970-385-1372.

The Department of the Interior's Bureau of Land Management and the U.S. Department of Agriculture's Forest Service are Joint Lead Agencies for the above project.

EIS No. 20060323, Draft EIS, AFS, AK, Scratchings Timber Sale Project, Timber Harvest up to Approximately 42 Million Board Feet, Suemez Island, Craig Ranger District, Tongass National Forest, AK, Comment Period Ends: 09/18/2006, Contact: Dennis Sylvia 907-828-3226.

EIS No. 20060324, Draft EIS, AFS, MT, Cabin Gulch Vegetation Treatment Project, Restore Fire-Adapted Ecosystems, Reduce Hazardous Fuels, and Water Quality Tributaries to Deep Creek, Helena National Forest, Townsend Ranger District, Broadwater County, MT, Comment Period Ends: 09/18/2006, Contact: Sharon Scott 406-449-5490.

EIS No. 20060325, Draft EIS, FRC, ID, Hells Canyon Hydroelectric Project, Application for Relicensing to Authorize the Continued Operation of Hydroelectric Project, Snake River, Washington and Adams Counties, ID and Wallowa and Baker Counties, OR, Comment Period Ends: 10/02/2006, Contact: Todd Sedmak 1-866-208-FERC.

Amended Notices

EIS No. 200600122, Draft EIS, BIA, WA, Cowlitz Indian Tribe Trust Acquisition and Casino Project, Take 151.87 Acres into Federal Trust and Issuing of Reservation Proclamation, and Approving the Gaming Development and Management Contact, Clack County, WA, Comment Period Ends: 08/25/2006, Contact: Gerald Henrickson 503-231-6927.

Revision of FR Notice Published on 04/14/2006: Comment Period Officially Reopened by Preparing Agency—Comment Period ends 8/25/2006.

EIS No. 20060195, Draft EIS, CGD, MA, -VOID-Northeast Gateway Deepwater Port License Application, Construct, Own and Operate a Deepwater Port to Import Liquefied Natural Gas (LNG) in Massachusetts Bay, City of Gloucester, MA, Comment Period Ends: 07/03/2006, Contact: Mark Prescott 202-267-0225.

Revision of FR Notice Published 05/19/2006: The above DEIS was inadvertently published in 05/19/2006. The Official Filing was Published in FR on 05/26/2006 CEQ#20060213.

EIS No. 20060221, Draft EIS, CGD, MA, -VOID-Neptune Liquefied Natural Gas Deepwater Port License Application, Proposes to Construct, Own and Operate a Deepwater Port, northeast of Boston and south-southeast of Gloucester, MA, Comment Period Ends: 07/17/2006, Contact: M.A. Prescott 202-372-1451.

Revision of FR Notice Published 06/02/2006: The above DEIS was inadvertently published in 06/02/2006. The Official Filing was Published in FR on 06/09/2006 CEQ#20060235.

EIS No. 20060253, Draft EIS, AFS, NV, Jarbidge Ranger District Rangeland Management Project, Authorize Continued Livestock Grazing, Humboldt-Toiyabe National Forest, Columbia River, NV, Comment Period Ends: 08/21/2006, Contact: James Winfrey 775-778-6129.

Revision of FR Notice Published on 06/23/2006: Extending Comment Period from 08/07/2006 to 08/21/2006.

EIS No. 20060266, Draft EIS, FTA, TX, North Corridor Fixed Guideway Project, Propose Transit Improvements from University of Houston (UH)-Downtown Station to Northline Mall, Harris County, TX, Comment Period Ends: 08/17/2006, Contact: John Sweek 817-978-0550.

Revision to FR Notice Published 07/03/2006: Correction to Agency Code from DOT to FTA.

EIS No. 20060313, Draft EIS, BIA, MT, Kerr Hydroelectric Project, Proposed Drought Management Plan, Implementation, Flathead Lake, MT, Comment Period Ends: 09/29/2006, Contact: Jeffery Loman 202-208-7373.

Revision of FR Notice Published on 07/28/2006: Correction to Comment Period from 09/11/2006 to 09/29/2006.

Dated: August 1, 2006.
Robert W. Hargrove,
Director, NEPA Compliance Division, Office of Federal Activities.

[FR Doc. 06-6715 Filed 8-3-06; 8:45 am]

BILLING CODE 6650-50-U